NUCLEAR REGULATORY COMMISSION

[Docket No. 50-298]

Nebraska Public Power District; Notice of Withdrawal of Application for Amendment to Facility Operating License

The U.S. Nuclear Regulatory Commission (the Commission) has granted the request of Nebraska Public Power District (the licensee) to withdraw its March 17, 2000, application for the proposed amendment to Facility Operating License No. DPR-46 for the Cooper Nuclear Station, located in Nemaha County, Nebraska.

The proposed amendment would have revised the Technical Specifications to permit the licensee to incorporate the requirements of Generic Letter 99-02 regarding laboratory testing of nuclear-grade activated charcoal.

The Commission had previously issued a Notice of Consideration of Issuance of Amendment published in the Federal Register on May 3, 2000 (65 FR 25766). However, by letter dated January 2, 2001, the licensee withdrew the proposed change.

For further details with respect to this action, see the application for amendment dated March 17, 2000, and the licensee's letter dated January 2, 2001, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 16th day of March, 2001.
For the Nuclear Regulatory Commission.
Mohan C. Thadani,
Senior Project Manager, Section 1, Project Directorate IV & Decommissioning, Division of Licensing Project Management, Office of Nuclear Reactor Regulation.

[FR Doc. 01-7100 Filed 3-21-01; 8:45 am]

BILLING CODE 7590-01-P